DEPARTMENT OF DEFENSE

Department of the Army

Privacy Act of 1974; System of Records

AGENCY: Department of the Army.

ACTION: Notice to add a system of records.

SUMMARY: The Department of the Army is adding a system of records notice to its existing inventory of record systems subject to the Privacy Act of 1974, (5 U.S.C. 552a), as amended.

DATES: This proposed action will be effective without further notice on September 22, 2004 unless comments are received which result in a contrary determination.

ADDRESSES: Send comments to the Department of the Army, Freedom of Information/Privacy Act Office. 7701 Telegraph Road, Alexandria, VA 22315-3905.

FOR FURTHER INFORMATION CONTACT: Ms. Janice Thornton at (703) 428-6504.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on August 13, 2004, to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: August 17, 2004.
L.M. Bynum,
Alternate OSD Federal Register Liaison Officer, Department of Defense.

A0350 USEUCOM

SYSTEM NAME:

George C. Marshall European Center for Security Studies Speaker Files.

SYSTEM LOCATION:

George C. Marshall European Center for Security Studies, Unit 24502, ATTN: ECMC-CL, APO AE 09053-0506.

Categories of individuals covered by the system:

Individuals who by virtue of their training, education or experience are qualified to make presentations on security and defense related matters to the Marshall Center student population, American and German Federal government military and civilian employees, NATO officers and academics, and university scholars.

Categories of records in the system:

Candidates' name, nationality, occupation, candidates' list of published articles/books, area of expertise, biographical sketches, institution address, phone number of the speaker, educational and professional qualifications, evaluation forms, and similar or related documents.

Authority for maintenance of the system:

10 U.S.C. 3013, Secretary of the Army; 10 U.S.C. 5013, Secretary of the Navy; 10 U.S.C. 8013, Secretary of the Air Force; DoD 5200.34, George C. Marshall European Center for Security Studies; and DoD 5010.16, Defense Management Education and Training Program.

Purpose(s):

To maintain a consolidated file of specified personnel which will provide a source of qualified speakers who can inform and promote the discussion of and the resolution of complex Atlantic-European-Eurasian national security and civilian-military defense related issues.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” set forth at the beginning of the Army's compilation of systems of records notices also apply to this system.

Policies and practices for storing, retiring, accessing, retaining, and disposing of records:

Storage:

Paper records and electronic storage medium.

Retrievability:

By individual's name and topical subject.

Safeguards:

Records are maintained within secure building in areas accessible only to persons having official need and who are properly trained and screened. Automated segments are protected by controlled system passwords governing access to data.

Retention and disposal:

Individual records will be maintained by the component for 2 years after the speaker last participates in a Marshall Center speech, presentation, conference or other similar type event. Individual records will be destroyed by the component at that time by a qualified component employee using a method that will prevent inadvertent disclosure of personal information.

System manager(s) and address:

Dean, College of International and Security Studies, George C. Marshall European Center for Security Studies, Unit 24502, ATTN: ECMC-CL, APO AE 09053-0506.

Notification procedures:

Individuals seeking to determine if information about themselves is contained in this record system should address written inquiries to the Dean, College of International and Security Studies; George C. Marshall European Center for Security Studies, Unit 24502, ATTN: ECMC-CL, APO 09053-0506.

Individual should provide the full name, sufficient details to locate records, current mailing address, and signature.

Record access procedures:

Individuals seeking to determine if information about themselves is contained in this record system should address written inquiries to the Dean, College of International and Security Studies; George C. Marshall European Center for Security Studies, Unit 24502, ATTN: ECMC-CL, APO AE 09053-0506.

Individual should provide the full name, sufficient details to locate records, current mailing address, and signature.

Contesting record procedures:

The Army's rules for accessing records and for contesting contents and appealing initial agency determinations are contained in Army Regulation 340-21; 32 CFR part 505; or may be obtained from the system manager.

Record source categories:

From the individual.

Exemptions claimed for the system:

None.

[FR Doc. 04-19186 Filed 8-20-04; 8:45 am]

BILLING CODE 5001-06-M